DEPARTMENT OF COMMERCE

National Oceanic and Atmospheric Administration

50 CFR Part 622

[Docket No. 150303208-6394-02]

RIN 0648-BE70

Fisheries of the Caribbean, Gulf of Mexico, and South Atlantic; Snapper-Grouper Fishery Off the Southern Atlantic States; Amendment 35

AGENCY: National Marine Fisheries Service (NMFS), National Oceanic and Atmospheric Administration (NOAA), Commerce.

ACTION: Final rule.

SUMMARY: NMFS issues regulations to implement Amendment 35 to the Fishery Management Plan for the Snapper-Grouper Fishery of the South Atlantic Region (FMP) (Amendment 35), as prepared and submitted by the South Atlantic Fishery Management Council (Council). Amendment 35 and this final rule removes black snapper, mahogany snapper, dog snapper, and schoolmaster from the FMP and the regulations, and revises regulations regarding the golden tilefish longline endorsement program. The purpose of this final rule is to ensure that only snapper-grouper species requiring Federal management are included in the Snapper-Grouper FMP, improve the consistency of management of snapper-grouper species in waters off south Florida across state and Federal jurisdictional boundaries, and to align regulations for golden tilefish longline endorsements with the Council's original intent for establishing the longline endorsement program.

DATES: This final rule is effective June 22, 2016.

ADDRESSES: Electronic copies of Amendment 35 may be obtained from the Southeast Regional Office Web site at http://sero.nmfs.noaa.gov. Amendment 35 includes a draft environmental assessment, a Regulatory Flexibility Act (RFA) analysis, a regulatory impact review, and a Fishery Impact Statement.

FOR FURTHER INFORMATION CONTACT: Nikhil Mehta, telephone: 727-824-5305; email: nikhil.mehta@noaa.gov.

SUPPLEMENTARY INFORMATION: The snapper-grouper fishery of the South Atlantic is managed under the FMP, and includes black snapper, mahogany snapper, dog snapper, schoolmaster, and golden tilefish. The FMP was prepared by the Council and is implemented through regulations at 50 CFR part 622 under the authority of the Magnuson-Stevens Fishery Conservation and Management Act (Magnuson-Stevens Act).

On February 5, 2016, NMFS published a notice of availability for Amendment 35 and requested public comment (81 FR 6222). On March 4, 2016, NMFS published a proposed rule for Amendment 35 and requested public comment (81 FR 11502). The Secretary of Commerce approved Amendment 35 on May 4, 2016. The proposed rule and Amendment 35 outline the rationale for the actions contained in this final rule. A summary of the actions implemented by Amendment 35 and this final rule is provided below.

Management Measures Contained in This Final Rule

Amendment 35 and this final rule removes black snapper, mahogany snapper, dog snapper, and schoolmaster from the FMP and the regulations, and revises the golden tilefish longline endorsement regulations to be consistent with the Council's original intent for establishing the longline endorsement program.

Remove Four Species From the FMP

The Council determined in Amendment 35 that black snapper, mahogany snapper, dog snapper, and schoolmaster should be removed from the FMP, to ensure that only species requiring Federal management are included in the FMP. While these species are currently in the FMP, they have extremely low commercial landings in state and Federal waters, and almost all harvest (recreational and commercial) occurs in waters off the coast of South Florida. Currently, NMFS does not manage these species in Federal waters of the Gulf of Mexico (Gulf); however, the species are subject to regulations in Florida state waters. As described in Amendment 35, there are currently different regulations for recreational bag limits, size limits, and catch levels for these species in South Atlantic Federal waters and Florida state waters. Inconsistent regulations make enforcement difficult and can be confusing to the public. Amendment 35 and this final rule removes black snapper, mahogany snapper, dog snapper, and schoolmaster from the FMP and the regulations and NMFS will not manage these species in Federal waters of the South Atlantic. At its April 2016 meeting, the Florida Fish and Wildlife Conservation Commission approved extending state regulation of these species into Federal waters off Florida for Florida-state registered fishing vessels, consistent with section 306(a)(3)(A) of the Magnuson-Stevens Act, to provide consistent regulations for these species across state and Federal jurisdictional boundaries.

Black snapper is part of the deep-water complex within the FMP. The deep-water complex currently includes black snapper, yellowedge grouper, silk snapper, misty grouper, queen snapper, sand tilefish, and blackfin snapper. With black snapper removed from the FMP, the annual catch limit (ACL) for the deep-water complex is reduced from 170,278 lb (77,237 kg), round weight, to 169,896 lb (77,063 kg), round weight, a difference of 382 lb (173 kg), round weight.

Dog snapper and mahogany snapper are part of the other snappers complex within the FMP. The other snappers complex currently includes cubera snapper, gray snapper, lane snapper, dog snapper, and mahogany snapper. Removal of dog snapper and mahogany snapper from the FMP reduces the other snappers complex ACL from 1,517,716 lb (688,424 kg), round weight, to 1,513,883 lb (686,688 kg), round weight, a difference of 3,833 lb (1,739 kg), round weight.

Schoolmaster is currently designated as an ecosystem component (EC) species in the FMP. The Council chose not to retain dog snapper, mahogany snapper, and black snapper in the FMP as EC species because the objective of the amendment is to establish a consistent regulatory environment across jurisdictional boundaries in Gulf and South Atlantic Federal waters and Florida state waters. Because NMFS does not manage these species in Gulf Federal waters, the Council determined that retaining them as EC species would continue inconsistent regulations across jurisdictional boundaries. Additionally, if these species were designated as EC species, the state of Florida would not be able to extend their management authority for these species into Federal waters, because states may not generally manage species in Federal waters if those species are included in Federal fishery management plans, as per section 306(a)(3)(A) of the Magnuson-Stevens Act.

Removing these species from the FMP and the regulations is not expected to result in any adverse biological effects.

Clarify Regulations for Golden Tilefish Endorsement Holders

The final rule to implement Amendment 18B to the FMP (78 FR 23858, April 23, 2013) established a longline endorsement program for the commercial golden tilefish component of the snapper-grouper fishery. A longline endorsement is required to fish for golden tilefish with longline gear. Amendment 18B also established a golden tilefish hook-and-line quota and modified the golden tilefish commercial trip limits. The Council established the longline endorsement program and gear specific commercial quotas to help ensure that fishermen fishing with each gear type have a fair and equitable allocation of the commercial quota. The Council did not intend for longline endorsement holders to fish on the hook-and-line quota, or for non-endorsement holders to fish on the longline quota.

The Council and NMFS are aware that since Amendment 18B was implemented, some longline endorsement holders are transferring their golden tilefish longline endorsement to another vessel and then fishing for golden tilefish using hook-and-line gear under the hook-and-line quota. Other endorsement holders are renewing their Federal commercial snapper-grouper vessel permit but are waiting to renew their golden tilefish longline endorsement, so that they are able to fish for golden tilefish using hook-and-line gear under the hook-and-line quota while their longline endorsement is not valid. Neither scenario is consistent with the original intent of the Council in Amendment 18B. The Council decided to clarify their intent for golden tilefish longline endorsement holders in Amendment 35. Currently, as described at § 622.191(a)(2)(ii), the regulations state that “Vessels with a golden tilefish longline endorsement are not eligible to fish for golden tilefish using hook-and-line gear under this 500-lb (227-kg), gutted weight, trip limit.” This final rule revises the regulations to state that “Vessels that have valid or renewable golden tilefish longline endorsements anytime during the fishing year, are not eligible to fish for golden tilefish using hook-and-line gear under this 500-lb (227-kg), gutted weight, trip limit.” Thus, a fisherman who owns a vessel with a valid or renewable golden tilefish longline endorsement would not be eligible to fish for golden tilefish using hook-and-line gear under the 500-lb (227-kg), gutted weight, hook-and-line trip limit during that fishing year.

Additional Change to Codified Text

In the part 622 regulations, NMFS would revise “allowable biological catch” to read “acceptable biological catch” wherever it occurs. In the part 600 regulations, “ABC” is defined as “acceptable biological catch;” however, in the part 622 regulations, “ABC” is defined as “acceptable biological catch” in three places and “allowable biological catch” in four places. NMFS has determined that “acceptable biological catch” is the more precise definition for “ABC”. Therefore, to be consistent with the part 600 regulations and to use the more precise terminology, NMFS changes the definition of “ABC” to “acceptable biological catch,” and accordingly revise “allowable biological catch,” wherever it occurs in the part 622 regulations.

Comments and Responses

A total of 11 comments were received on the proposed rule and Amendment 35 from individuals, a recreational fishing organization, the state of Florida, and a Federal agency. One individual and the state of Florida supported the removal of the four species from the Snapper-Grouper FMP. Two comments were not related to the actions in the Amendment 35. The Federal agency stated that it had no comment on the proposed rule or Amendment 35. The remaining comments that specifically relate to the actions contained in the amendment and the rule as well as NMFS' respective responses, are summarized below.

Comment 1: NMFS should wait for stock assessments for black snapper, mahogany snapper, dog snapper, and schoolmaster, before removing these species from the FMP.

Response: NMFS disagrees that it is necessary to complete stock assessments before removing these species from the FMP. Although a stock assessment has not been performed for any of these species, there is no indication that these stocks are depleted. Black snapper, mahogany snapper, dog snapper, and schoolmaster are currently in the FMP, but have extremely low landings in state and Federal waters, and almost all harvest (recreational and commercial) occurs in waters off south Florida. While NMFS does not manage these species in the Federal waters of the Gulf, these species are subject to regulations in Florida state waters in both the Gulf and South Atlantic. Further, as anticipated in Amendment 35 and the state of Florida's comment on the proposed rule, the Florida Fish and Wildlife Conservation Commission has approved extending state regulations for these species for Florida-state registered vessels into Federal waters of the South Atlantic and Gulf off Florida. Based on these factors, the Council and NMFS determined that removing these species from the FMP is not expected to result in any adverse biological effects. Further, the Council has the ability to add these species back into the FMP at any time, if such an action is warranted in the future.

Comment 2: NMFS should allow a fisher to continue fishing for golden tilefish using hook-and-line gear once the commercial quota for the longline gear component is met, because the golden tilefish portion of the snapper-grouper fishery has separate commercial quotas for both hook-and-line and longline gear. It is discriminatory and unfair not to allow fishers with longline endorsements to fish under the hook-and-line quota.

Response: NMFS disagrees. Amendment 35 clarifies the intent of the Council in Amendment 18B to the FMP (78 FR 23858, April 23, 2013), which established a golden tilefish longline endorsement program. Amendment 18B also established golden tilefish commercial quotas for both the hook-and-line and longline components and revised the golden tilefish commercial trip limits. As explained in Amendment 35, the golden tilefish longline endorsement, separate quotas by gear type, and trip limits, were established because the golden tilefish commercial ACL was being harvested so rapidly by fishermen using longline gear, that fishermen who had historically used hook-and-line gear to target golden tilefish were not able to participate in the golden tilefish portion of the snapper-grouper fishery as a result of the commercial ACL being met early in the fishing year through primarily longline effort. The Council established the longline endorsement program and gear-specific commercial quotas to help ensure that fishermen using each gear type have a fair and equitable allocation of the commercial quota. In Amendment 18B, the Council determined that allocating 75 percent of the overall commercial ACL to longline gear (endorsement holders) and 25 percent of the commercial ACL to hook-and-line gear resulted in a fair and equitable distribution of the golden tilefish resource in the South Atlantic. The separate quota for longline gear is greater than the quota for hook-and-line gear because longline gear can harvest more fish than hook-and-line gear can per commercial trip. When establishing gear-specific quotas, the Council never intended for longline endorsement holders to harvest golden tilefish under the hook-and-line quota, or for non-endorsement holders (hook-and-line) to fish under the longline quota.

However, the Council and NMFS are aware that since Amendment 18B was implemented, some longline endorsement holders have been transferring their golden tilefish longline endorsement to another vessel and then fishing for golden tilefish using hook-and-line gear under the hook-and-line quota. Other endorsement holders are renewing their Federal commercial snapper-grouper vessel permit but are waiting to renew their golden tilefish longline endorsement, thereby fishing for golden tilefish using hook-and-line gear under the hook-and-line quota while their longline endorsement is not valid. Neither scenario is consistent with the original intent of the Council in Amendment 18B. Through Amendment 35, the Council clarified and reaffirmed their intent for the golden tilefish longline endorsement program in the snapper-grouper fishery, to ensure that fishermen using both gear types can participate in harvesting the golden tilefish resource.

Comment 3: Revision of the golden tilefish longline endorsement regulations will create an economic hardship for the current 22 golden tilefish longline endorsement holders.

Response: NMFS acknowledges that there may be potential negative economic effects to the 22 longline endorsement holders, as further discussed in the Classification section to this final rule. The Council considered these effects in Amendment 18B and Amendment 35, and NMFS has determined that the actions in Amendment 35 are consistent with the National Standards in the Magnuson-Stevens Act. In Amendment 18B, the Council considered the negative effects to longline vessels resulting from the allocation of the golden tilefish commercial ACL between longline endorsement holders and those without longline endorsements. Since the implementation of Amendment 18B, and contrary to the original intent of the Council, some longline endorsement holders have received economic benefits by harvesting golden tilefish under the hook-and-line quota, in addition to harvesting under the longline quota. Amendment 35 and this final rule will remove these unanticipated economic benefits.

If a commercial fishermen with a longline endorsement wishes to continue fishing for golden tilefish under the hook-and-line commercial trip limit during a specific fishing year after the effective date of this final rule, they would need to do so on a different vessel with a different commercial snapper-grouper permit. This is consistent with the Council's original intent in Amendment 18B, which was reaffirmed by the Council in Amendment 35. NMFS notes that it would likely not be economically feasible to purchase a new vessel and permit for the sole purpose of harvesting golden tilefish under the hook-and-line trip limit; however, NMFS assumes commercial fishers will only purchase new assets if they expect to result in a profit. Therefore, the negative economic effects of this final rule are limited in scope to a potential reduction in golden tilefish revenue for the 22 longline endorsement holders, most of whom did not harvest golden tilefish under both the longline and hook-and-line quotas on a single vessel in 2014.

Comment 4: Changing the golden tilefish endorsement regulations will limit the availability of golden tilefish. It is important to have golden tilefish available to local restaurants and seafood dealers during the January through March grouper spawning season closure.

Response: If the harvest of golden tilefish is closed to longline endorsement holders during a fishing year as a result of reaching the longline quota, golden tilefish could still be available to seafood restaurants and dealers through fishers who harvest golden tilefish under the hook-and-line quota. Furthermore, during the January through March spawning season closure that is in place for most grouper species, other species such as blueline tilefish, snowy grouper, black sea bass, greater amberjack, and vermilion snapper could still be available to seafood restaurants and dealers when the longline quota for golden tilefish had been met.

Classification

The Regional Administrator, Southeast Region, NMFS, has determined that this final rule is consistent with Amendment 35, the FMP, the Magnuson-Stevens Act, and other applicable laws.

This final rule has been determined to be not significant for purposes of Executive Order 12866.

The Magnuson-Stevens Act provides the statutory basis for this rule. The proposed rule and the preamble to this final rule provide a statement of the need for and objectives of this rule. No duplicative, overlapping, or conflicting Federal rules have been identified. In addition, no new reporting, record-keeping, or other compliance requirements are introduced by this final rule.

In compliance with section 604 of the RFA, NMFS prepared a final regulatory flexibility analysis (FRFA) for this final rule. The FRFA follows.

Public comments relating to socio-economic implications and potential impacts on small businesses are addressed in the responses to comments 2, 3, and 4 in the Comments and Responses section of this final rule. No changes to this final rule were made in response to public comments. No comments were received from the Office of Advocacy for the Small Business Administration.

NMFS agrees that the Council's choice of preferred alternatives will best achieve the Council's objectives for Amendment 35 while minimizing, to the extent practicable, the adverse effects on fishers, support industries, and associated communities.

This final rule will directly affect all commercial vessels that harvest black snapper, dog snapper, mahogany snapper, schoolmaster and/or golden tilefish under the FMP. The removal of the four snapper-grouper species discussed in this final rule will not directly apply to or affect charter vessel and headboat (for-hire) businesses. Any impact to the profitability or competitiveness of for-hire fishing businesses will be the result of changes in for-hire angler demand and will therefore be indirect in nature. Currently, federally permitted charter and headboat captains and crew can retain black snapper, dog snapper, mahogany snapper, schoolmaster and golden tilefish under the recreational bag limit; however, they cannot sell these fish. As such, charter and headboat captains and crew will only be affected as recreational anglers. The RFA does not consider recreational anglers, who will be directly affected by this final rule, to be small entities, so they are outside the scope of this analysis and only the effects on commercial vessels were analyzed.

As of April 27, 2016, there were 553 vessels with valid or renewable Federal South Atlantic snapper-grouper unlimited permits, 116 vessels with valid or renewable 225-lb (102-kg) trip-limited permits and 22 vessels with valid or renewable longline endorsements for golden tilefish. Data from the years of 2009 through 2013, supplemented by partial 2014 data, were used in Amendment 35, as well as the initial regulatory flexibility analysis (IRFA), and this data provided the basis for the Council's decision. Although all commercial snapper-grouper permit holders have the opportunity to fish for black snapper, dog snapper, mahogany snapper, and/or schoolmaster, on average, there were only four federally permitted vessels identified from 2009 through 2013 that commercially landed one or more of these species each year. The average annual vessel-level revenue for all species harvested by these four vessels over this period was approximately $101,000 (2013 dollars), of which $32 was from black snapper, dog snapper, mahogany snapper, and/or schoolmaster. During the same time period, on average, 22 vessels per year commercially harvested golden tilefish using longline gear and their annual average vessel-level revenue for all species was approximately $95,000 (2013 dollars), of which $55,000 was from golden tilefish. Thirty-seven vessels, on average (2009 through 2013), commercially harvested golden tilefish exclusively with non-longline gear and they earned an average of approximately $46,000 (2013 dollars) per vessel for all species harvested, of which $2,000 was from golden tilefish.

No other small entities that will be directly affected by this final rule have been identified.

The Small Business Administration (SBA) has established size criteria for all major industry sectors in the U.S., including commercial finfish harvesters (NAICS code 114111). A business primarily involved in finfish harvesting is classified as a small business if it is independently owned and operated, is not dominant in its field of operation (including its affiliates), and has combined annual receipts not in excess of $20.5 million for all its affiliated operations worldwide. All of the vessels directly regulated by this final rule are believed to be small entities based on the SBA size criteria.

There are currently 669 vessels eligible to fish for the snapper-grouper species managed under the FMP. Based on the analysis included in the IRFA, NMFS expects only 63 of them will be affected by this final rule (approximately 9 percent). Because all of these commercial fishing businesses are believed to be small entities, the issue of disproportionate effects on small versus large entities does not arise in the present case.

Amendment 35 and this final rule remove black snapper, dog snapper, mahogany snapper, and schoolmaster from the FMP and the regulations. The state of Florida will subsequently extend its management of these species into Federal waters off Florida, for Florida-state registered vessels. Average revenues per vessel from 2009 through 2013 for these four snapper-grouper species accounted for less than 1 percent of average total revenues received by the vessels that commercially harvested these species. Almost all harvest (recreational and commercial) of these species occurs in state and Federal waters off the coast of south Florida. The level of harvest of these species is not expected to change under management by the state of Florida, thus no reduction in associated ex-vessel revenue or profit is expected from this final rule.

This final rule will also modify the golden tilefish longline endorsement regulations. Vessels that have Federal commercial snapper-grouper permits with golden tilefish longline endorsements, specifically those that harvest golden tilefish using both longline and hook-and-line gear, are expected to be negatively affected by this action because they will no longer be able to harvest golden tilefish using hook-and-line gear under the hook-and-line commercial quota. This will result in reduced revenues if they are unable to substitute the harvest of other species. A total of four vessels were identified in 2014 that had a valid or renewable golden tilefish longline endorsement during some part of the year and also harvested golden tilefish under the hook-and-line 500-lb (227-kg) commercial trip limit. On average, these four vessels earned an estimated $8,142 (2013 dollars) per vessel from golden tilefish landings using hook-and-line gear in 2014. This accounts for approximately 9.2 percent of their average total revenue per vessel (2009 through 2013). Therefore, assuming no substitution of other species and constant prices, this final rule is expected to result in an estimated recurring annual loss of $8,142 (2013 dollars) per vessel for the four vessels that harvested golden tilefish using both longline and hook-and-line gear. Conversely, vessels that do not have longline endorsements are expected to indirectly benefit from this final rule, because they will no longer have to compete with longline endorsement holders under the hook-and-line quota. On average, the 37 non-longline endorsement holders identified earlier in this analysis are expected to experience an annual per-vessel increase in revenue of approximately $880 (2013 dollars) or less than 2 percent of their annual average vessel-level revenue.

The following discussion analyzes the alternatives that were not selected as preferred by the Council. Only actions that would have direct economic effects on small entities merit inclusion in the following discussion.

Five alternatives were considered to remove species from the FMP. The first alternative, the no action alternative, would retain all current species in the FMP and would not be expected to have any economic effects. Under the no action alternative, species that do not require Federal management would remain in the FMP and potential cost savings and/or efficiency gains of management would go unrealized. All of the other alternatives were selected as preferred and will result in the removal of black snapper, dog snapper, mahogany snapper, and schoolmaster from Federal management.

Three alternatives, including the preferred alternative, were considered for modifying the golden tilefish endorsement regulations. The first alternative, the no action alternative, would not be expected to have any economic effects. The current golden tilefish endorsement regulations are, however, contrary to the original intent of the Council and unintentionally limit golden tilefish harvest opportunities and economic benefits for hook-and-line fishermen. The second alternative would revise the golden tilefish endorsement regulations so that any vessel with a valid or renewable Federal longline endorsement would not be permitted to harvest golden tilefish under the hook-and-line quota. Under the second alternative, longline endorsement holders that operate more than one vessel (with a Federal snapper-grouper vessel permit) would be able to transfer their golden tilefish longline endorsement to a different vessel and then continue to fish for golden tilefish under the hook-and-line quota in a single year. Only one vessel exhibited this behavior in 2014. Under the second alternative, the negative economic effects on the longline endorsement holders would be less than that expected through this final rule, as would the positive effects experienced by the hook-and-line component of the commercial sector. However, this alternative would be inconsistent with the original Council intent of establishing the longline endorsement in Amendment 18B, which was that vessels with a golden tile longline endorsement would not be eligible to fish for golden tilefish under the hook-and-line gear quota.

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. As part of this rulemaking process, NMFS prepared a fishery bulletin, which also serves as a small entity compliance guide. The fishery bulletin will be sent to all interested parties.

List of Subjects in 50 CFR Part 622

Acceptable biological catch, Annual catch limit, Commercial trip limit, Fisheries, Fishing, Quotas, Snapper-grouper, South Atlantic, Species table.

Dated: May 18, 2016.
Samuel D. Rauch III,
Deputy Assistant Administrator for Regulatory Programs, National Marine Fisheries Service.

For the reasons set out in the preamble, 50 CFR part 622 is amended as follows:

PART 622—FISHERIES OF THE CARIBBEAN, GULF OF MEXICO, AND SOUTH ATLANTIC

1. The authority citation for part 622 continues to read as follows:

Authority: 16 U.S.C. 1801 et seq.

2. In part 622, remove “allowable biological catch” and add in its place “acceptable biological catch” wherever it occurs.

3. In § 622.185, paragraph (a)(3) is revised to read as follows:

§ 622.185 Size limits.

* * * * *

(a) * * *

(3) Blackfin, cubera, gray, queen, silk, and yellowtail snappers—12 inches (30.5 cm), TL.

* * * * *

4. In § 622.191, the second sentence in paragraph (a)(2)(ii) is revised to read as follows:

§ 622.191 Commercial trip limits.

* * * * *

(a) * * *

(2) * * *

(ii) * * * Vessels that have valid or renewable golden tilefish longline endorsements any time during the fishing year, are not eligible to fish for golden tilefish using hook-and-line gear under this 500-lb (227-kg), gutted weight, trip limit.

* * * * *

5. In § 622.193, paragraphs (h) and (p) are revised to read as follows:

§ 622.193 Annual catch limits (ACLs), annual catch targets (ACTs), and accountability measures (AMs).

* * * * *

(h) Deep-water complex (including yellowedge grouper, silk snapper, misty grouper, queen snapper, sand tilefish, and blackfin snapper)—(1) Commercial sector—(i) If commercial landings for the deep-water complex, as estimated by the SRD, reach or are projected to reach the commercial ACL of 131,268 lb (59,542 kg), round weight, the AA will file a notification with the Office of the Federal Register to close the commercial sector for the remainder of the fishing year. On and after the effective date of such a notification, all sale or purchase of deep-water complex species is prohibited and harvest or possession of these species in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If commercial landings exceed the ACL, and the combined commercial and recreational ACL of 169,896 lb (77,064 kg), round weight, is exceeded, and at least one of the species in the deep-water complex is overfished, based on the most recent Status of U.S. Fisheries Report to Congress, the AA will file a notification with the Office of the Federal Register, at or near the beginning of the following fishing year to reduce the commercial ACL for that following year by the amount of the commercial ACL overage in the prior fishing year.

(2) Recreational sector. (i) If recreational landings for the deep-water complex, as estimated by the SRD, are projected to reach the recreational ACL of 38,628 lb (17,521 kg), round weight, the AA will file a notification with the Office of the Federal Register to close the recreational sector for the remainder of the fishing year, unless the RA determines that no closure is necessary based on the best scientific information available. On and after the effective date of such a notification, the bag and possession limits are zero.

(ii) If recreational landings for the deep-water complex, exceed the applicable recreational ACL, and the combined commercial and recreational ACL of 169,896 lb (77,064 kg), round weight, is exceeded, and at least one of the species in the deep-water complex is overfished, based on the most recent Status of U.S. Fisheries Report to Congress, the AA will file a notification with the Office of the Federal Register, to reduce the length of the recreational fishing season in the following fishing year to ensure recreational landings do not exceed the recreational ACL the following fishing year. When NMFS reduces the length of the following recreational fishing season and closes the recreational sector, the following closure provisions apply: The bag and possession limits for the deep-water complex in or from the South Atlantic EEZ are zero. Additionally, the recreational ACL will be reduced by the amount of the recreational ACL overage in the prior fishing year. The fishing season and recreational ACL will not be reduced if the RA determines, using the best scientific information available that no reduction is necessary.

* * * * *

(p) Other snappers complex (including cubera snapper, gray snapper, and lane snapper)—(1) Commercial sector—(i) If commercial landings for the other snappers complex, as estimated by the SRD, reach or are projected to reach the complex commercial ACL of 344,575 lb (156,297 kg), round weight, the AA will file a notification with the Office of the Federal Register, to close the commercial sector for this complex for the remainder of the fishing year. On and after the effective date of such a notification, all sale or purchase of cubera snapper, gray snapper, and lane snapper is prohibited, and harvest or possession of any of these species in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If commercial landings for the other snappers complex, as estimated by the SRD, exceed the commercial ACL, and the combined commercial and recreational ACL of 1,513,883 lb (686,686 kg), round weight, is exceeded, and at least one of the species in the other snappers complex is overfished, based on the most recent Status of U.S. Fisheries Report to Congress, the AA will file a notification with the Office of the Federal Register to reduce the commercial ACL for that following year by the amount of the commercial ACL overage in the prior fishing year.

(2) Recreational sector—(i) If recreational landings for the other snappers complex, as estimated by the SRD, reach or are projected to reach the recreational ACL of 1,169,308 lb (530,391 kg), round weight, the AA will file a notification with the Office of the Federal Register to close the recreational sector for the remainder of the fishing year regardless if any stock in the other snappers complex is overfished, unless NMFS determines that no closure is necessary based on the best scientific information available. On and after the effective date of such a notification, the bag and possession limits for any species in the other snappers complex in or from the South Atlantic EEZ are zero.

(ii) If recreational landings for the other snappers complex, as estimated by the SRD, exceed the recreational ACL, then during the following fishing year, recreational landings will be monitored for a persistence in increased landings, and if necessary, the AA will file a notification with the Office of the Federal Register, to reduce the length of the recreational fishing season and the recreational ACL by the amount of the recreational ACL overage, if at least one of the species in the other snappers complex is overfished based on the most recent Status of U.S. Fisheries Report to Congress, and the combined commercial and recreational ACL of 1,513,883 lb (686,686 kg), round weight, is exceeded during the same fishing year. NMFS will use the best scientific information available to determine if reducing the length of the recreational fishing season and recreational ACL is necessary. When the recreational sector is closed as a result of NMFS reducing the length of the recreational fishing season and the ACL, the bag and possession limits for any species in the other snappers complex in or from the South Atlantic EEZ are zero.

* * * * *

6. In Appendix A to part 622, Table 4 is revised to read as follows:

Appendix A to Part 622—Species Tables

* * * * *

Table 4 of Appendix A to Part 622—South Atlantic Snapper-Grouper
Balistidae—Triggerfishes
Gray triggerfish, Balistes capriscus
Carangidae—Jacks
Bar jack, Caranx ruber
Greater amberjack, Seriola dumerili
Lesser amberjack, Seriola fasciata
Almaco jack, Seriola rivoliana
Banded rudderfish, Seriola zonata
Ephippidae—Spadefishes
Spadefish, Chaetodipterus faber
Haemulidae—Grunts
Margate, Haemulon album
Tomtate, Haemulon aurolineatum
Sailor's choice, Haemulon parrai
White grunt, Haemulon plumieri
Labridae—Wrasses
Hogfish, Lachnolaimus maximus
Lutjanidae—Snappers
Queen snapper, Etelis oculatus
Mutton snapper, Lutjanus analis
Blackfin snapper, Lutjanus buccanella
Red snapper, Lutjanus campechanus
Cubera snapper, Lutjanus cyanopterus
Gray snapper, Lutjanus griseus
Lane snapper, Lutjanus synagris
Silk snapper, Lutjanus vivanus
Yellowtail snapper, Ocyurus chrysurus
Vermilion snapper, Rhomboplites aurorubens
Malacanthidae—Tilefishes
Blueline tilefish, Caulolatilus microps
Golden tilefish, Lopholatilus chamaeleonticeps
Sand tilefish, Malacanthus plumieri
Percichthyidae—Temperate basses
Wreckfish, Polyprion americanus
Serranidae—Groupers
Rock hind, Epinephelus adscensionis
Graysby, Epinephelus cruentatus
Speckled hind, Epinephelus drummondhayi
Yellowedge grouper, Epinephelus flavolimbatus
Coney, Epinephelus fulvus
Red hind, Epinephelus guttatus
Goliath grouper, Epinephelus itajara
Red grouper, Epinephelus morio
Misty grouper, Epinephelus mystacinus
Warsaw grouper, Epinephelus nigritus
Snowy grouper, Epinephelus niveatus
Nassau grouper, Epinephelus striatus
Black grouper, Mycteroperca bonaci
Yellowmouth grouper, Mycteroperca interstitialis
Gag, Mycteroperca microlepis
Scamp, Mycteroperca phenax
Yellowfin grouper, Mycteroperca venenosa
Serranidae—Sea Basses:
Black sea bass, Centropristis striata
Sparidae—Porgies
Jolthead porgy, Calamus bajonado
Saucereye porgy, Calamus calamus
Whitebone porgy, Calamus leucosteus
Knobbed porgy, Calamus nodosus
Red porgy, Pagrus pagrus
Scup, Stenotomus chrysops
The following species are designated as ecosystem component species:
Cottonwick, Haemulon melanurum
Bank sea bass, Centropristis ocyurus
Rock sea bass, Centropristis philadelphica
Longspine porgy, Stenotomus caprinus
Ocean triggerfish, Canthidermis sufflamen

* * * * *

[FR Doc. 2016-12077 Filed 5-20-16; 8:45 am]

BILLING CODE 3510-22-P